DEPARTMENT OF ENERGY

Amended Notice of Intent To Prepare an Environmental Impact Statement for the Proposed North Plains Connector Project, Colstrip, MT to Center/St. Anthony, ND

AGENCY: Grid Deployment Office, Department of Energy.

ACTION: Amended notice of intent.

SUMMARY: On October 25, 2024, the Grid Deployment Office (GDO), Department of Energy (DOE) issued a Notice of Intent (NOI) to prepare an Environmental Impact Statement (EIS) for the Proposed North Plains Connector Project, Colstrip, Montana to Center/St. Anthony, North Dakota. The previous NOI indicated that DOE did not have decision making authority related to the North Plains Connector Project (NPC). This amended NOI (ANOI) clarifies that DOE does have a decision-making role with respect to the North Plains Connector Interregional Innovation (NPCII) conditional award pursuant to DOE's Grid Resilience and Innovations Partnership (GRIP) Grant Program.

ADDRESSES: Please direct any questions about this amended NOI to Kira Treich, NEPA Document Manager, by any of the following methods:

• Email: northplainsconnector@hq.doe.gov.

• Mail: Kira Treich, NPC NEPA Document Manager, U.S. Department of Energy, Grid Deployment Office, 1000 Independence Avenue SW, Suite 4H-065, Washington, DC 20585.

Further information regarding the NPC EIS, including the original NOI, may be found at www.energy.gov/nepa/doeeis-0568-north-plains-connector-multiple-locations.

FOR FURTHER INFORMATION CONTACT: Kira Treich, GDO NEPA Document Manager, northplainsconnector@hq.doe.gov, (202) 586-2006.

SUPPLEMENTARY INFORMATION:

Background: On October 25, 2024, the Grid Deployment Office (GDO), Department of Energy (DOE) issued a Notice of Intent (NOI) to prepare an Environmental Impact Statement (EIS) for the Proposed North Plains Connector Project, Colstrip, Montana to Center/St. Anthony, North Dakota. (89 FR 85182, October 25, 2024).

Separately, as part of the Infrastructure Investment and Jobs Act (Pub. L. 117-58 (2021)), DOE is administering the $10.5 billion GRIP Program to enhance grid flexibility and improve the resilience of the power system against growing threats of extreme weather. This funding award program will accelerate the deployment of transformative projects that will help to ensure the reliability of the power sector's infrastructure, so all American communities have access to affordable, reliable electricity.

In August 2024, DOE announced a conditional GRIP award of up to $700 million, subject to completion of required environmental reviews and other applicable conditions, to Montana Department of Commerce (MTDOC) for the NPCII Project. Of this estimated $700 million, if awarded, MTDOC would disburse an estimated $605 million to the Project Proponent to support planning, procurement, permitting, construction, and commissioning of the Proposed Project.

Proposed Action: In addition to its role as a Co-Lead Agency for the EIS, DOE is now proposing to finalize the components of the NPCII GRIP award relevant to NPC's Proposed Project. If finalized, DOE would provide approximately $605 million in Federal funding to MTDOC, who would then disburse those funds to the Project Proponent for the Proposed Project pursuant to the GRIP Program. The funding would be disbursed in a phased approach subject to certain conditions met in the preceding phase. Those funding phases would support planning, procurement, construction, and commissioning of the Proposed Project. In addition to clarifying DOE's role as a decisionmaker, this ANOI also provides information on the proposed upgrades at the Colstrip Substation and how those changes relate to the Proposed Project and updates the No Action Alternative to account for DOE's funding decision.

The scope of the EIS analysis described in the original NOI is not altered by DOE's pending decision regarding GRIP funding of the Proposed Project, nor does it alter, in any way, the scope of decisions put before ARS, BLM, or USFS. Therefore, DOE is not reopening the scoping period for this EIS.

Project Details: The Proposed Project details remain substantially the same as presented in the original NOI, with additional details to further describe the necessary upgrades to the Colstrip Substation. In addition to the modifications described in the original NOI, the EIS will analyze the potential installation of two new 500 kV bays within and adjacent to the existing Colstrip Substation, and the potential upgrade of the Colstrip Switchyard 500 kV bus to a 5,000-Amp rating. The existing footprint of the Colstrip Substation would be expanded by approximately 4 acres to the northwest and approximately 9 acres to the south and east to accommodate the interconnection.

Purpose and Need: DOE amends its purpose and need to include its obligation to administer the GRIP Program in a manner consistent with the Congressional intent of supporting projects that use innovative approaches to transmission, storage, and distribution infrastructure to enhance grid resilience and reliability, including interregional transmission projects, investments that accelerate interconnection of energy generation, and utilization of distribution grid assets to provide backup power and reduce transmission requirements.

Alternatives: This ANOI modifies the No Action Alternative to consider DOE's funding decision. The Project Proponent may decide to proceed with developing the Proposed Project even without DOE funding, however, under the No Action Alternative, the analysis assumes DOE would not grant funds, the necessary permits and authorizations would not be granted by other relevant permitting entities, and the Proposed Project would not be constructed.

Responsible Official and Nature of Decision to Be Made: The original NOI identified each Federal agency's deciding Official and the scope of the relevant Federal decisions to be made. In this ANOI, DOE is adding its responsibility to decide whether to finalize the NPCII GRIP award components necessary to support the Proposed Project, or whether to terminate those components of the conditional GRIP award. The GDO Director is the Official responsible for making the decision.

Signing Authority

This document of the Department of Energy was signed on October 24, 2025, by Tina Francone, Director of the Grid Deployment Office. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 17, 2025.
Jennifer Hartzell,
Alternate Federal Register Liaison Officer, U.S. Department of Energy.

[FR Doc. 2025-20267 Filed 11-18-25; 8:45 am]

BILLING CODE 6450-01-P